DEPARTMENT OF THE INTERIOR

Fish and Wildlife Service

Draft Comprehensive Conservation Plan/Environmental Impact Statement for the Sweetwater Marsh and South San Diego Bay Units of the San Diego Bay National Wildlife Refuge

AGENCY: Fish and Wildlife Service, Department of the Interior.

ACTION: Notice of availability.

SUMMARY: The U.S. Fish and Wildlife Service (Service) announces that a Draft Comprehensive Conservation Plan/Environmental Impact Statement (Draft CCP/EIS) for the Sweetwater Marsh and South San Diego Bay Units of the San Diego Bay National Wildlife Refuge is available for review and comment. This Draft CCP/EIS has been prepared pursuant to the National Environmental Policy Act of 1969 and is designed to address the Service's obligation under the National Wildlife Refuge System Administration Act of 1966, as amended by the National Wildlife Refuge System Improvement Act of 1997. The Draft CCP/EIS describes the Service's proposal for managing these Refuge Units over the next 15 years. Also available for review and public comment in the Draft CCP/EIS are draft compatibility determinations for several public uses and a draft Predator Management Plan.

DATES: Written comments must be received at the address below on or before Monday, September 19, 2005.

ADDRESSES: A copy of the Draft CCP/EIS is available on compact disk or in hard copy, and you may obtain a copy by writing to: Victoria Touchstone, Refuge Planner, San Diego National Wildlife Refuge Complex, 6010 Hidden Valley Road, Carlsbad, CA 92011. You may also access or download copies of the Draft CCP/EIS at the following Web site address: http://pacific.fws.gov/planning.

Hard copies of the Draft CCP/EIS are also available for viewing at the following locations:

• San Diego National Wildlife Refuge Complex, 6010 Hidden Valley Road, Carlsbad, CA;

• Tijuana Estuary Visitor Center, 301 Caspian Way, Imperial Beach, CA;

• Chula Vista Public Library, Civic Center Branch, 365 F Street, Chula Vista, CA and South Chula Vista Branch, 389 Orange Avenue, Chula Vista, CA;

• Coronado Public Library, 640 Orange Avenue, Coronado, CA;

• Imperial Beach Library, 810 Imperial Beach Boulevard, Imperial Beach, CA;

• National City Library, 200 East 12th Street, National City, CA; and

• City of San Diego, Central Library, Government Publications, 820 E Street, Logan Heights Branch Library, 811 South 28th Street, Otay Mesa Branch Library, 3003 Coronado Avenue, and Paradise Hills Branch Library, 5922 Rancho Hills Drive, San Diego, CA.

A public meeting to present the details of the Draft CCP/EIS is scheduled for Wednesday, August 31, 2005, from 6:30 p.m. to 8 p.m. at the Chula Vista City Council Chambers located at 276 Fourth Avenue, Chula Vista, California 91910.

Comments on the Draft CCP/EIS should be addressed to: Victoria Touchstone, Refuge Planner, San Diego National Wildlife Refuge Complex, 6010 Hidden Valley Road, Carlsbad, CA 92011. Comments may also be submitted via electronic mail to Victoria_Touchstone@fws.gov or via fax to (760) 930-0256. Please type “San Diego Bay CCP” in the subject line.

FOR MORE INFORMATION CONTACT: Victoria Touchstone, Refuge Planner, at (760) 431-9440 extension 349.

SUPPLEMENTARY INFORMATION: The National Wildlife Refuge System Administration Act of 1966, as amended by the National Wildlife Refuge System Improvement Act of 1997 (16 U.S.C. 668dd-668ee et seq) requires the Service to develop a Comprehensive Conservation Plan (CCP) for each National Wildlife Refuge. The purpose for developing a CCP is to provide refuge managers with a 15-year strategy for achieving refuge purposes and contributing toward the mission of the National Wildlife Refuge System (Refuge System), consistent with sound principles of fish and wildlife science, conservation, legal mandates, and Service policies. In addition to outlining broad management direction for conserving wildlife and their habitats, the CCPs identify wildlife-dependent recreational opportunities available to the public, including opportunities for hunting, fishing, wildlife observation and photography, and environmental education and interpretation. The National Wildlife Refuge System Administration Act of 1966, as amended by the National Wildlife Refuge System Improvement Act of 1997, requires the Service to review and update these CCPs at least every 15 years. Revisions to the CCP will be prepared in accordance with the National Environmental Policy Act of 1969 (42 U.S.C. 4321-4370d).

Background

The CCP for the Refuge Units in San Diego Bay was initiated in June 2000. At that time and throughout the process, public comments were requested, considered, and incorporated in numerous ways. Public outreach has included scoping meetings, public workshops, planning updates, a CCP webpage, and two Federal Register notices. When the CCP was initiated, these refuge lands were referred to as the Sweetwater Marsh National Wildlife Refuge and the South San Diego Bay Unit of the San Diego National Wildlife Refuge. However, in June 2004, these lands were reorganized into the San Diego Bay National Wildlife Refuge. This action was taken to streamline management and facilitate public understanding and recognition of the two refuge areas within San Diego Bay. This change had no affect on the approved refuge boundaries or the current management practices. All that changed were the names. We now refer to these areas as the Sweetwater Marsh and South San Diego Bay Units of the San Diego Bay National Wildlife Refuge.

The San Diego Bay National Wildlife Refuge is located approximately 10 miles north of the United States-Mexico border in southwestern San Diego County, California. Collectively, the two Refuge Units encompass approximately 2,620 acres of land and water in and around the south end of San Diego Bay. The native coastal salt marsh and intertidal mudflats preserved within this Refuge annually provide essential foraging and resting habitat for tens of thousands of migratory shorebirds and wintering waterfowl traveling along the Pacific Flyway.

The Sweetwater Marsh Unit was established as a National Wildlife Refuge in 1988. Encompassing approximately 316 acres, this Refuge was established to protect federally listed endangered and threatened species. The coastal salt marsh and upland areas within the Sweetwater Marsh Unit support 6 federally listed species, including 3 listed birds that nest within the Unit, one State-listed endangered species, and 26 species of birds identified by the Service as Birds of Conservation Concern.

The South San Diego Bay Unit was established in 1999 as a unit of the San Diego National Wildlife Refuge for the purpose of protecting, managing, and restoring habitats for federally listed endangered and threatened species and migratory birds. The Service currently manages approximately 2,300 acres of the 3,940 acres included within the Unit's approved acquisition boundary. The majority of this management area is leased to the Service by the California State Lands Commission. Included within this Unit is the largest remaining expanse of intertidal mudflats in San Diego Bay. This and other habitats within the Unit support 5 federally listed endangered and threatened species, 1 State-listed endangered species, and 19 species of birds identified by the Service as Birds of Conservation Concern. Open water is the dominant habitat, followed by intertidal mudflats, disturbed uplands, salt marsh, and freshwater wetlands. The Unit includes an active commercial solar salt operation that is managed under a Special Use Permit. The salt pond levees provide important nesting habitat for a variety of colonial nesting seabirds.

Purpose and Need for Action

The CCP is intended to provide a coherent, integrated set of management actions consistent with the purposes for which the two Refuge Units were established; the mandates of the Refuge System; and the vision, goals, and objectives defined in the CCP. The CCP identifies the Refuge Units' roles in support of the mission of the Refuge System, describes the Service's management actions, and provides a basis for budget needs. This CCP is also intended to satisfy a condition of the Public Agency Lease between the California State Lands Commission and the Service, requiring management and public access plans for the South San Diego Bay Unit and to fulfill the Service's obligation described in a Cooperative Agreement between the Service and the Unified Port of San Diego to prepare “a holistic habitat restoration plan” for a 1,035-acre portion of the existing salt ponds within the South San Diego Bay Unit.

Alternatives

The Draft CCP/EIS identifies and evaluates three alternatives for managing the Sweetwater Marsh Unit and four alternatives for managing the South San Diego Bay Unit for the next 15 years. One alternative for each Refuge Unit that appears to best meet the Refuge purposes is identified as the preferred alternative. The preferred alternatives were identified based on the analysis presented in the Draft CCP/EIS, which may be modified following the completion of the public comment period based on comments received from other agencies, Tribal governments, non-governmental organizations, or individuals.

Alternatives for the Sweetwater Marsh Unit

Under Alternative A—No Action, the Sweetwater Marsh Unit would continue to be managed as it has in the past. No major changes in habitat management would occur. The existing wildlife observation, photography, environmental education, and interpretation programs would remain unchanged.

Under Alternative B, current management activities would be expanded to emphasize enhancement of existing salt marsh habitat. Tidal and freshwater circulation within the salt marsh would be improved to enhance habitat quality for the endangered light-footed clapper rail and other trust species. Existing public uses would continue with added opportunities for environmental interpretation provided adjacent to Paradise Marsh and the F&G Street Marsh.

Under Alternative C (the preferred alternative), management activities would be expanded to include restoration of intertidal and upland habitat. The existing trail system on Gunpowder Point would be redesigned and new interpretive elements would be provided to better complement the existing environmental education programs supported by the Refuge.

Alternatives for the South San Diego Bay Unit

Under Alternative A—No Action, the South San Diego Bay Unit would continue to be managed as it has in the past. No major changes in habitat management would occur. The existing opportunities for fishing, wildlife observation, photography, environmental education, and boating would remain unchanged and commercial solar salt production would continue. The Service would continue to pursue land management opportunities within the approved acquisition boundary for the Unit. This activity would occur under any of the alternatives evaluated for this Unit.

Under Alternative B, current management activities would be expanded to emphasize enhancement of nesting opportunities in and around the salt ponds for the California least tern, western snowy plover, and various other colonial seabirds. New nesting habitat would be created and levee tops would be capped with clean, light sand to improve the quality of available nesting substrate. The current public use programs would remain unchanged.

Under Alternative C, portions of the salt ponds and all of the Otay River floodplain would be restored to native coastal habitats, and the nesting enhancements described in Alternative B would be implemented. Two restoration options are presented for both the salt ponds and the Otay River floodplain that could result in the restoration of up to 410 acres of intertidal habitat in the salt works and 140 acres of habitat, including intertidal salt marsh, freshwater wetlands, and native uplands, within the Otay River floodplain. Opportunities for fishing and wildlife observation would be expanded, the Otay Valley Regional Trail would be facilitated, and the construction of a boardwalk along the south side of the salt ponds is proposed. The commercial solar salt operation would continue within a reduced footprint.

Under Alternative D (the preferred alternative), the habitat potential within the salt ponds would be maximized. Approximately 600 acres of salt ponds would be restored to tidal influence to support intertidal mudflat and coastal salt marsh habitats. Additionally, some 30 acres of new nesting habitat would be created, 230 acres of pond area would be managed to benefit waterfowl and shorebird foraging and nesting, and 44 acres of salt ponds and associated levees would be managed to sustain a viable population of brine invertebrates to support the foraging needs of specific species of migratory birds. The Otay River floodplain would be restored as described in Alternative C and the nesting enhancements described under Alternative B would be implemented. Opportunities for wildlife observation, photography, and environmental interpretation would be expanded, the regional trail and boardwalk described in Alternative C would be provided, and the other public uses that are currently provided, including fishing, environmental education, and boating, would be maintained. Restoration under this alternative would be phased and would ultimately result in the closure of the existing commercial solar salt operation.

Predator Management Plan

A draft predator management plan has also been prepared to accompany the CCP. Implementation of this plan is proposed pursuant to the Service's endangered species management responsibilities and would occur on the Refuge in conjunction with other wildlife and habitat management activities. Species to benefit from the implementation of predator management include the federally listed endangered California least tern and light-footed clapper rail and the threatened western snowy plover. The predator management plan has been developed as a comprehensive wildlife damage control program that addresses a range of management actions from vegetation control and nesting habitat enhancement to non-lethal and lethal control of both mammalian and avian predators. Under this plan, the most effective, selective, and humane techniques available to deter or remove individual predators or species that threaten nesting, breeding, or foraging California least terns, western snowy plovers, or light-footed clapper rails would be implemented.

Public Comments

After the review and comment period ends for this Draft CCP/EIS, comments will be analyzed by the Service and addressed in the Final CCP/EIS. All comments received from individuals, including names and addresses, become part of the official public record and may be released. Requests for such comments will be handled in accordance with the Freedom of Information Act, the Council on Environmental Quality's NEPA regulations, and Service and Departmental policies and procedures.

Dated: July 14, 2005.
Ken McDermond,
Manager, California/Nevada Operations, Sacramento, California.

[FR Doc. 05-14217 Filed 7-21-05; 8:45 am]

BILLING CODE 4310-55-P